DEPARTMENT OF TRANSPORTATION

Federal Highway Administration

Environmental Impact Statement; Knox County, City of Vincennes, Indiana and Lawrence County, IL

AGENCY: Federal Highway Administration (FHWA), DOT.

ACTION: Notice of intent.

SUMMARY: The Federal Highway Administration (FHWA) is issuing this notice to advise the public that FHWA will prepare an Environmental Impact Statement (EIS) for the relocation of railroad lines in Knox County, Indiana and Lawrence County, Illinois. The proposed rail relocation study will involve the relocation of the two CSX Transportation (CSXT) railroad mainline tracks, the north-south mainline and the east-west mainline that traverses through the City of Vincennes and portions of Knox County, Indiana and Lawrence County Illinois.

DATES: Comments on the scope of the EIS for the proposed project should be forwarded no later than April 16, 2007.

ADDRESSES: Address all comments concerning this notice to Brock Hoegh, Project Planner, HNTB Indiana, Inc., 111 Monument Circle, Suite 1200, Indianapolis, IN 46204, Telephone: (317) 636-4682, E-mail: bhoegh@hntb.com.

FOR FURTHER INFORMATION CONTACT: Larry Heil, Environmental Specialist, Federal Highway Administration, Telephone: (317) 226-7480; or Frank Litherland, INDOT Project Manager, Telephone 812-882-8364.

SUPPLEMENTARY INFORMATION: The FHWA, in cooperation with the Indiana Department of Transportation (INDOT) and the Illinois Department of Transportation (IDOT), will prepare an EIS to evaluate alternative alignments for the relocation of the two CSXT railroad mainline tracks, the north-south mainline and the east-west mainline that traverses through the City of Vincennes and portions of Knox County, Indiana and Lawrence County, Illinois. The north-south mainline is CSXT's main route from Chicago to points south and southeast. The east-west mainline is one of CSXT's routes to St. Louis. The east-west mainline extends from Cincinnati to St. Louis. The two mainlines cross just north of downtown. The majority of the train traffic travels on the north-south CSXT mainline and consists of approximately 50 trains per day. The east-west mainline has approximately 15 trains per day. The relocation of the north-south mainline will require the construction of a new corridor approximately 10 to 13 miles in length depending on the alignment alternative. The east-west corridor may be approximately 8 to 9 miles in length. The relocation of the railroad corridors would eliminate at least 47 grade crossings. The relocated rail corridors would be entirely grade separated.

The numerous grade crossings with high vehicle traffic volumes within the city limits require the CSXT trains to reduce speed as they pass through Vincennes. Two CSXT mainlines cross in the middle of the city, and trains that switch between mainlines move slowly, creating traffic backups, emergency vehicle delays, and delays in rail operations. Frequently, train movements literally cut the city in half. In addition, the large volumes of trains and vehicular traffic crossing the railroad corridor increase the probability of collisions at the crossings.

Cooperating Agencies: The Federal Railroad Administration has agreed to serve as a cooperating agency. No others have been yet identified for this project.

Environmental Issues: Possible environmental impacts include displacement of commercial and residential properties, increased noise in some areas, decreased noise in other areas, effects to historical properties or archaeological sites, viewshed impacts, impacts to water resources, wetlands, farmed wetlands, prime farmland, sensitive biological species and habitat, land use compatibility impacts, and impacts to agricultural lands.

Alternatives: The EIS will consider alternatives that include: (1) Taking no action; (2) rail relocation and reconstruction of railroad line(s) and grade separations on new location.

Scoping and Comment: FHWA encourages broad participation in the EIS process and review of the resulting environmental documents. A scoping meeting will be conducted in the City of Vincennes area at a date and place, which will be widely publicized well in advance of the meeting. Comments, questions, and suggestions related to the project and potential environmental concerns are invited from all interested agencies and the public at large to ensure that the full range of issues related to the proposed action and all reasonable alternatives are considered and all significant issues are identified. These comments, questions, and suggestions should be forwarded to the address listed above. The public is invited to participate in the scoping process as well. Notices of availability for the Draft EIS, Final EIS, and Record of Decision will be provided through direct mail, the Federal Register and other media. Notification also will be sent to Federal, State, local agencies, persons, and organizations that submit comments or questions. Precise schedules and locations for public meetings will be announced in the local news media. Interested individuals and organizations may request to be included on the mailing list for the distribution of meeting announcements and associated information.

(Catalog of Federal Domestic Assistance Program No. 20.205, Highway Planning and Construction. The regulations implementing Executive Order 12372 regarding intergovernmental consultation on Federal programs and activities apply to the program).

Authority: 23 U.S.C. 315; 23 CFR 771.123; 49 CFR 1.48.

Issued on: March 9, 2007.
Robert F. Tally, P.E.,
Division Administrator, Indianapolis, Indiana.

[FR Doc. E7-4725 Filed 3-14-07; 8:45 am]

BILLING CODE 4910-22-P